DEPARTMENT OF ENERGY

Federal Energy Regulatory Commission

Sunshine Act Meeting Notice

December 11, 2002.

The following notice of meeting is published pursuant to section 3(A) of the Government in the Sunshine Act (Pub. L. 94-409), 5 U.S.C 552B:

Agency Holding Meeting: Federal Energy Regulatory Commission.

Date and Time: December 18, 2002, 10 a.m.

Place: Room 2C, 888 First Street, NE., Washington, DC 20426.

Status: Open.

Matters to Be Considered: Agenda.

Note: Items listed on the agenda may be deleted without further notice.

Contact Person for More Information: Magalie R. Salas, Secretary, Telephone (202) 502-8400.

For a recording listing items stricken from or added to the meeting, call (202) 502-8627.

This is a list of matters to be considered by the Commission. It does not include a listing of all papers relevant to the items on the agenda; however, all public documents may be examined in the Reference and Information Center.

813th—Meeting, December 18, 2002, Regular Meeting, 10 a.m.

Administrative Agenda

A-1.

DOCKET# AD02-1 000, Agency Administrative Matters

A-2.

DOCKET# AD02-7, 000, Customer Matters, Reliability, Security and Market Operations

A-3.

DOCKET# AD03-2, 000 Report on Market Monitoring Workshop

Markets, Tariffs and Rates—Electric

E-1.

DOCKET# EC03-14, 000 Ameren Services Company, FirstEnergy Corp., Northern Indiana Public Service Company, National Grid USA, and Midwest Independent Transmission System Operator, Inc.

OTHER#S ER02-2233 001 Ameren Services Company, FirstEnergy Corp., Northern Indiana Public Service Company, National Grid USA, and Midwest Independent Transmission System Operator, Inc.

E-2. DOCKET# ER03-86, 000, Midwest Independent Transmission System Operator, Inc.

E-3.

DOCKET# ER02-1420, 006, Midwest Independent Transmission System Operator, Inc.

OTHER#S ER02-1420, 003, Midwest Independent Transmission System Operator, Inc.; ER02-1420 004, Midwest Independent Transmission System Operator, Inc.

E-4.

DOCKET# ER03-83, 000, TRANSLink Development Company, LLC

E-5.

DOCKET# RT01-35, 009, Avista Corporation, Bonneville Power Administration, Idaho Power Company, Nevada Power Company, North Western Energy, L.L.C., PacifiCorp, Portland General Electric Company, Puget Sound Energy, Inc., Sierra Pacific Power Company, and British Columbia Hydro and Power Authority

E-6.

DOCKET# RT02-1, 003, Arizona Public Service Company, El Paso Electric Company, Public Service Company of New Mexico and Tucson Electric Power Company

OTHER#S EL02-9, 001, WestConnect RTO, LLC

E-7. OMITTED

E-8.

DOCKET# EC02-113, 000, Cinergy Services, Inc., on behalf of PSI Energy, Inc., CinCap Madison, LLC and CinCap VII, LLC

E-9.

DOCKET# EL02-60, 003, Public Utilities Commission of the State of California v. Sellers of Long Term Contracts to the California Department of Water Resources

OTHER#S EL02-62, 003, California Electricity Oversight Board v. Sellers of Energy and Capacity Under Long-Term Contracts with the California Department of Water Resources

E-10.

DOCKET# RT01-2, 001, PJM Interconnection L.L.C., Allegheny Electric Cooperative, Inc., Atlantic City Electric Company, Baltimore Gas & Electric Company, Delmarva Power & Light Company, Jersey Central Power & Light Company Metropolitan Edison Company, PECO Energy Company, Pennsylvania Electric Company, PPL Electric Utilities Corporation, Potomac Electric Power Company, Public Service Electric & Gas Company and UGI Utilities Inc.

OTHER#S RT01-2, 002, PJM Interconnection L.L.C., Allegheny Electric Cooperative, Inc., Atlantic City Electric Company, Baltimore Gas & Electric Company, Delmarva Power & Light Company, Jersey Central Power & Light Company Metropolitan Edison Company, PECO Energy Company, Pennsylvania Electric Company, PPL Electric Utilities Corporation, Potomac Electric Power Company, Public Service Electric & Gas Company and UGI Utilities Inc.

E-11.

DOCKET# OA97-261, 003, Pennsylvania-New Jersey-Maryland Interconnection

OTHER#S EC96-28, 004, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company; EC96-29, 004, PECO Energy Company; EL96-69, 004, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company; ER96-2516, 004, Atlantic City Electric Company, Baltimore Gas and Electric Company, Delmarva Power & Light Company, Jersey Central Power & Light Company, Metropolitan Edison Company, Pennsylvania Electric Company, Pennsylvania Power & Light Company, Potomac Electric Power Company and Public Service Electric and Gas Company; ER96-2668, 004, PECO Energy Company; EC97-38, 002, Pennsylvania Electric Company, Pennsylvania Power & Light Company, Potomac Electric Power Company, Public Service Electric and Gas Company, Atlantic City Electric Company, Baltimore Gas and Electric Company, Delmarva Power & Light Company, Jersey Central Power & Light Company, and Metropolitan Edison Company; EL97-44, 002, Pennsylvania-New Jersey-Maryland Interconnection Restructuring; OA97-678, 002, PJM Interconnection, L.L.C.; ER97-1082, 005, Pennsylvania-New Jersey-Maryland Interconnection; ER97-3189, 031, Atlantic City Electric Company, Baltimore Gas and Electric Company, Delmarva Power & Light Company, Jersey Central Power & Light Company, and Metropolitan Edison Company; ER97-3273 002 Pennsylvania Electric Company, Pennsylvania Power & Light Company, Potomac Electric Power Company, Public Service Electric and Gas Company, and Pennsylvania-New Jersey-Maryland Interconnection Restructuring

E-12.

DOCKET# PL03-1, 000, Proposed Pricing Policy for Transmission Independence

E-13.

DOCKET# ER02-2014, 000, Entergy Services, Inc.

OTHER#S ER02-2014, 003, Entergy Services, Inc. ER02-2014 004 Entergy Services, Inc.

E-14.

DOCKET# EC02-91, 000, UBS AG

OTHER#S EL02-105, 000, UBS AG; EC02-120, 000, Bank of America, N.A.; EL02-130, 000, Bank of America, N.A.

E-15.

DOCKET# ER03-147, 000, ISO New England Inc.

E-16.

DOCKET# EL01-10, 000, Puget Sound Energy, Inc.

OTHER#S EL01-10, 001, Puget Sound Energy, Inc.

E-17.

DOCKET# EL03-19, 000, Southern California Edison Company v. Enron Generating Facilities: Victory Garden Phase IV Partnership, Sky River Partnership, Cabazon Power Partners LLC, Zond Wind System Partners, Ltd. Series 85-A and Zond Wind System Partners, Ltd. Series 85-B

OTHER#S QF85-686, 002, Southern California Edison Company v. Enron Generating Facilities: Victory Garden Phase IV Partnership, Sky River Partnership, Cabazon Power Partners LLC, Zond Wind System Partners, Ltd. Series 85-A and Zond Wind System Partners, Ltd. Series 85-B; QF85-687, 002, Southern California Edison Company v. Enron Generating Facilities: Victory Garden Phase IV Partnership, Sky River Partnership, Cabazon Power Partners LLC, Zond Wind System Partners, Ltd. Series 85-A and Zond Wind System Partners, Ltd. Series 85-B; QF87-365, 005, Zond Windsystems Holding Company; QF90-43 004 Victory Garden Phase IV Partnership; QF90-43, 005, Southern California Edison Company v. Enron Generating Facilities: Victory Garden Phase IV Partnership, Sky River Partnership, Cabazon Power Partners LLC, Zond Wind System Partners, Ltd. Series 85-A and Zond Wind System Partners, Ltd. Series 85-B; QF91-59, 005, Sky River Partnership; QF91-59, 006, Southern California Edison Company v. Enron Generating Facilities: Victory Garden Phase IV Partnership, Sky River Partnership, Cabazon Power Partners LLC, Zond Wind System Partners, Ltd. Series 85-A and Zond Wind System Partners, Ltd. Series 85-B; QF95-186, 005, Southern California Edison Company v. Enron Generating Facilities: Victory Garden Phase IV Partnership, Sky River Partnership, Cabazon Power Partners LLC, Zond Wind System Partners, Ltd. Series 85-A and Zond Wind System Partners, Ltd. Series 85-B; EL03-17, 000, Investigation of Certain Enron-Affiliated QFs

E-18.

DOCKET# OA97-237, 000, New England Power Pool

OTHER#S OA97-608, 000, New England Power Pool; ER97-1079, 000, New England Power Pool; ER97-3574, 000, New England Power Pool; ER97-4421, 000, New England Power Pool; ER98-499, 000, NEW England Power Pool;

E-19.

DOCKET# ER02-1326, 001, PJM Interconnection L.L.C.

OTHER# ER02-1326, 002, PJM Interconnection L.L.C.

E-20.

DOCKET# ER02-2015, 002, Southern Company Services, Inc.

E-21.

DOCKET# ER96-399, 000, Northern Indiana Public Service Company, Inc.

E-22.

DOCKET# ER02-648, 000, Sithe New Boston, LLC

OTHER# ER02-648, 001, Sithe New Boston, LLC

E-23.

OMITTED

E-24.

DOCKET# ER00-1053, 006, Maine Public Service Company

OTHER# ER00-1053, 007, Maine Public Service Company

E-25.

DOCKET# ER03-140, 000, Concord Electric Company, Exeter & Hampton Electric Company, and Unitil Energy Systems, Inc.

E-26.

DOCKET# ER02-2463, 000, ISO New England Inc.

OTHER# ER02-2463, 001, ISO New England Inc.

E-27.

DOCKET# ER02-994, 003, Duke Energy Corporation

E-28.

DOCKET# EL98-36, 002, Aquila Power Corporation v. Entergy Services, Inc., Entergy Arkansas, Inc., Entergy Louisiana, Inc., Entergy Mississippi, Inc., Entergy New Orleans, Inc., and Entergy Gulf States, Inc.

E-29.

DOCKET# EL01-68, 013, Investigation of Wholesale Rates of Public Utility Sellers of Energy and Ancillary Services in the Western Systems Coordinating Council

E-30.

DOCKET# RM01-12, 001, Remedying Undue Discrimination Through Open Access Transmission Service and Standard Electricity Market Design

E-31.

DOCKET# ER02-2170, 000, Aquila, Inc.

OTHER# ER02-2170, 001, Aquila, Inc.

E-32.

DOCKET# ER02-2234, 002, California Power Exchange Corporation

OTHER# ER02-2234, 003, California Power Exchange Corporation; ER02-2234, 004, California Power Exchange Corporation

E-33.

DOCKET# ER03-93, 000, El Paso Electric Company

E-34.

OMITTED

E-35.

OMITTED

E-36.

DOCKET# EL00-62, 053, New England Power Pool and ISO New England, Inc.

OTHER# EL00-62, 052, New England Power Pool and ISO New England, Inc.; ER02-2330, 001, New England Power Pool and ISO New England, Inc.; ER02-2330, 002, New England Power Pool and ISO New England, Inc.; ER02-2330, 003, New England Power Pool and ISO New England, Inc.

E-37.

DOCKET# RM00-7, 007, Revision of Annual Charges Assessed to Public Utilities

E-38.

OMITTED

E-39.

DOCKET# EL03-10, 000, Northeast Utilities Service Company v. NRG Energy, Inc.

E-40.

DOCKET# RM01-8, 003, Filing Requirements for Electric Utility Service Agreements

E-41.

DOCKET# OA02-9, 000, CED Rock Springs, Inc., and Rock Springs Generation, LLC

E-42.

OMITTED

E-43.

DOCKET# EL03-14, 000, City of Azusa, California

OTHER# EL00-105, 006, City of Vernon, California; ER00-2019, 005, California Independent System Operator Corporation; EL03-15, 000, City of Anaheim, California; EL03-20, 000, City of Riverside, California; EL03-21, 0003, City of Banning, California

E-44.

OMITTED

E-45.

OMITTED

E-46.

DOCKET# EL02-6, 000, Dynegy Midwest Generation, Inc., and Dynegy Power Marketing, Inc., v. Commonwealth Edison Company

E-47.

DOCKET# EL02-108, 000, Truckee Donner Public Utility District v. Idaho Power Company, IDACORP Energy, L.P., and IDACORP, Inc.

E-48.

OMITTED

E-49.

DOCKET# EL01-23, 000, Dynegy Power Marketing, Inc., El Segundo Power, LLC, Long Beach Generation LLC, Cabrillo Power I LLC, and Cabrillo Power II LLC v. California Independent System Operator Corporation

E-50.

DOCKET# EL03-16, 000, PPL Electric Utilities Corporation

E-51.

DOCKET# ER02-250, 000, California Independent System Operator Corporation

OTHER# ER02-479, 000, Pacific Gas and Electric Company; ER02-527, 003, California Independent System Operator Corporation

E-52.

DOCKET# EL03-11, 000, Wisvest-Connecticut, LLC v. ISO New England, Inc.

E-53.

OMITTED

E-54.

OMITTED

E-55.

DOCKET# EL00-105, 006, City of Vernon, California

OTHER# ER00-2019, 005, California Independent System Operator Corporation

E-56.

OMITTED

E-57.

OMITTED

E-58.

DOCKET# ER02-851, 005, Southern Company Services, Inc.

OTHER# ER02-851, 006, Southern Company Services, Inc.

E-59.

DOCKET# ER02-925, 000, Southern California Edison Company

OTHER# ER02-925, 001, Southern California Edison Company; ER02-925, 002, Southern California Edison Company

E-60.

DOCKET# RM02-9, 001, Electronic Filing of Form 1, and Elimination of Certain Designated Schedules in Form Nos. 1 and 1-F

E-61.

DOCKET# EL01-50, 001, KeySpan-Ravenswood, Inc. v. New York ISO

Miscellaneous Agenda

M-1.

DOCKET# PL02-5, 000, Statement of Administrative Policy on Separation of Function

M-2.

DOCKET# RM02-10, 000, Electronic Registration

Markets, Tariffs and Rates—Gas

G-1.

OMITTED

G-2.

OMITTED

G-3.

DOCKET# GT02-35, 002, Tennessee Gas Pipeline Company

G-4.

DOCKET# RP00-467, 001, Midwestern Gas Transmission Company

OTHER#S RP00-467, 000, Midwestern Gas Transmission Company; RP01-19, 000, Midwestern Gas Transmission Company; RP01-19, 001, Midwestern Gas Transmission Company

G-5.

DOCKET# RP01-205, 003, Southern Natural Gas Company

G-6.

DOCKET# RP03-17, 000, Missouri Interstate Gas, LLC

G-7.

DOCKET# RP02-114, 001, Tennessee Gas Pipeline Company

G-8.

DOCKET# RP02-361, 001, Gulfstream Natural Gas System, L.L.C.

OTHER#S RP02-361, 003, Gulfstream Natural Gas System, L.L.C.; RP02-361, 004, Gulfstream Natural Gas System, L.L.C.

G-9.

DOCKET# RP02-382, 002, Crossroads Pipeline Company

OTHER#S RP02-382, 001, Crossroads Pipeline Company

G-10.

OMITTED

G-11.

OMITTED

G-12.

OMITTED

G-13.

DOCKET# RP00-341, 002, Egan Hub Partners, L.P.

OTHER#S RP01-48, 001, Egan Hub Partners, L.P.

G-14.

DOCKET# RP99-274, 006, Kern River Gas Transmission Company

OTHER#S RP99-274, 007, Kern River Gas Transmission Company

G-15.

OMITTED

G-16.

DOCKET# RP01-612, 003, ANR Pipeline Company

OTHER#S RP01-612, 000, ANR Pipeline Company; RP01-612, 001, ANR Pipeline Company; RP01-612, 002, ANR Pipeline Company

G-17.

DOCKET# RP02-396, 001, Great Lakes Gas Transmission Limited Partnership

G-18.

DOCKET# RP00-336, 007, El Paso Natural Gas Company

G-19.

DOCKET# RP00-497, 001, Viking Gas Transmission Company

OTHER#S RP01-47, 001, Viking Gas Transmission Company; RP00-497, 000, Viking Gas Transmission Company; RP01-47, 002, Viking Gas Transmission Company; RP01-47, 003, Viking Gas Transmission Company; RP01-47, 000, Viking Gas Transmission Company

G-20.

DOCKET# RP02-196, 004, Reliant Energy Gas Transmission Company

OTHER#S RP02-196, 000, Reliant Energy Gas Transmission Company; RP02-196, 001, Reliant Energy Gas Transmission Company; RP02-196, 002, Reliant Energy Gas Transmission Company; RP02-196, 003, Reliant Energy Gas Transmission Company

G-21.

OMITTED

G-22.

OMITTED

G-23.

OMITTED

G-24.

OMITTED

G-25.

DOCKET# RP02-383, 002, Columbia Gas Transmission Corporation

OTHER#S RP02-383, 001, Columbia Gas Transmission Corporation

G-26.

DOCKET# RP02-384, 002, Columbia Gulf Transmission Company

OTHER#S RP02-384, 001, Columbia Gulf Transmission Company

G-27.

OMITTED

G-28.

OMITTED

G-29.

DOCKET# RP00-495, 002, Texas Gas Transmission Corporation

OTHER#S RP01-97, 001, Texas Gas Transmission Corporation

G-30.

DOCKET# RP00-315, 000, Gulf South Pipeline Company, LP.

G-31.

DOCKET# RP03-66, 000, MIGC, INC.

G-32.

DOCKET# RP02-533, 000, Kinder Morgan Interstate Gas Transmission LLC

G-33.

OMITTED

G-34.

DOCKET# RM03-3, 000, Elimination of Paper Filing Requirements of Form Nos. 2, 2A and 6

G-35.

DOCKET# RP02-365, 000, Northern Natural Gas Company

G-36.

DOCKET# RP03-41, 000, e prime, inc v. PG&E Transmission, Northwest Corporation

G-37.

OMITTED

G-38.

DOCKET# PR03-1, 000, ONEOK Field Services Company

G-39.

DOCKET# RP99-166, 000, Stingray Pipeline Company, L.L.C.

G-40.

DOCKET# RP99-381, 000, Wyoming Interstate Company, Ltd.

G-41.

DOCKET# RP03-46, 000, Enbridge Pipelines (UTOS) L.L.C.

G-42.

OMITTED

G-43.

OMITTED

G-44.

DOCKET# PR02-21, 000, Duke Energy Guadalupe Pipeline, Inc

OTHER#S PR02-21, 001, Duke Energy Guadelupe Pipeline, Inc

G-45.

DOCKET# PR02-17, 001, Gulf States Pipeline Corporation

OTHER#S PR02-17, 000, Gulf States Pipeline Corporation

G-46.

DOCKET# RP95-197, 047, Transcontinental Gas Pipe Line Corporation

OTHER#S RP97-71, 039, Transcontinental Gas Pipe Line Corporation

G-47.

DOCKET# RP02-232, 001, Great Lakes Gas Transmission Limited Partnership

G-48.

OMITTED

G-49.

DOCKET# GT95-11, 002, Williams Gas Pipelines Central, Inc.

OTHER#S RI83-9, 003, Colorado Interstate Gas Company and Northern Natural Gas Company; GP83-11, 002, Colorado Interstate Gas Company and Northern Natural Gas Company

G-50.

DOCKET# RP98-52, 000, Williams Gas Pipelines Central, Inc.

OTHER#S GP98-3, 000, OXY USA Inc.; GP98-4, 000, Amoco Production Co.; GP98-13, 000, ExxonMobil; GP98-16, 000, Union Pacific Resources Inc.; SA98-33, 000, Pioneer Natural Resources USA, Inc.

G-51.

DOCKET# RP98-40, 000, Panhandle Eastern Pipe Line Company

OTHER#S GP98-6, 000, Anadarko Petroleum Corp. GP98-7, 000, OXY USA Inc.; GP98-27, 000, Oneok Exploration Co.; GP98-32, 000, Anadarko Production Co.; SA99-7, 000, Charlotte Hill Gas Co.; SA99-14, 000, Green Wolf Oil Co.

G-52.

DOCKET# GP99-15, 000, Burlington Resources Oil & Gas Company

OTHER#S RP98-39, 000, Northern Natural Gas Company; SA98-101, 000, Continental Energy

G-53.

DOCKET# RP98-53, 000, Kinder Morgan Interstate Gas Transmission L.L.C.

OTHER#S GP98-29, 000, ONEOK Resources Co.

G-54.

DOCKET# SA98-96, 000 Partnership Properties Co.

OTHER# SA98-4, 000 Edgar W. White; RP98-54, 000, Colorado Interstate Gas Company

G-55.

OMITTED

G-56.

DOCKET# RP98-54, 000, Colorado Interstate Gas Company

G-57.

DOCKET# RP98-39, 000, Northern Natural Gas Company

G-58.

DOCKET# RP98-39, 024, Northern Natural Gas Company

OTHER# SA98-7, 000, Dorchester Hugoton, Ltd.; RP98-40, 030, Panhandle Eastern Pipe Line Company; RP98-54, 034, Colorado Interstate Gas Company; SA98-100, 000, IMC Global Inc.; SA99-1, 000, Burlington Resources Oil & Gas Company; GP99-16, 000, Joel T. Strohl, Scott T. Strohl, and Sid Strohl; GP99-17, 000, Joel T. Strohl, Scott T. Strohl, and Sid Strohl; GP99-18, 000, Kansas Independent Oil & Gas Association, a/k/a Robert E. Krehbiel

G-59.

DOCKET# RP03-104, 000, Colorado Interstate Gas Company

G-60.

DOCKET# RP95-197, 048, Transcontinental Gas Pipe Line Corporation

OTHER# RP95-197, 049, Transcontinental Gas Pipe Line Corporation; RP97-71, 040, Transcontinental Gas Pipe Line Corporation; RP03-84, 000, Transcontinental Gas Pipe Line Corporation

Energy Projects—Hydro

H-1.

DOCKET# P-2566, 031, Consumers Energy Company

H-2.

OMITTED

H-3.

DOCKET# DI02-2, 001, Sheldon Jackson College

H-4.

OMITTED

H-5.

DOCKET# P-11162, 005, Wisconsin Power & Light Company

Energy Projects—Certificates

C-1.

DOCKET# CP02-374, 000, Hackberry LNG Terminal, LLC

OTHER# CP02-376, 000, Hackberry LNG Terminal, LLC; CP02-377, 000, Hackberry LNG Terminal, LLC; CP02-378, 000, Hackberry LNG Terminal, LLC

C-2.

DOCKET# CP02-60, 001, CMS Trunkline LNG Company, LLC

OTHER# CP02-60, 000, CMS Trunkline LNG Company, LLC

C-3.

DOCKET# CP02-142, 000, Columbia Gas Transmission Corporation

OTHER# CP01-260, 000, Columbia Gas Transmission Corporation; CP01-260, 001, Columbia Gas Transmission Corporation; CP02-142, 001, Columbia Gas Transmission Corporation

C-4.

DOCKET# CP02-116, 000, Tennessee Gas Pipeline Company

OTHER# CP02-117, 000, Tennessee Gas Pipeline Company

C-5.

DOCKET# CP02-204, 000, Transcontinental Gas Pipe Line Corporation

C-6.

DOCKET# CP02-391, 000, Natural Gas Pipeline Company of America

C-7.

DOCKET# CP03-8, 000, Regent Resources Ltd.

C-8.

OMITTED

C-9.

DOCKET# CP02-417, 000, Colorado Interstate Gas Company

OTHER#S CP02-424, 000, Westpan Resources L.P.

C-10.

DOCKET# CP02-434, 000, ANR Pipeline Company

C-11.

DOCKET# CP01-439, 002, Columbia Gas Transmission Corporation

C-12.

DOCKET# CP02-399, 001, Missouri Interstate Gas, LLC

OTHER# CP02-400, 001, Missouri Interstate Gas, LLC; CP02-401, 001, Missouri Interstate Gas, LLC

Magalie R. Salas,
Secretary.

[FR Doc. 02-31817 Filed 12-13-02; 11:29 am]

BILLING CODE 6717-01-P